DEPARTMENT OF THE INTERIOR

National Park Service

Notice of Inventory Completion: U.S. Department of Defense, U.S. Army Corps of Engineers, Sacramento District, Sacramento, CA; U.S. Department of the Interior, National Park Service, Sequoia & Kings Canyon National Parks, Three Rivers, CA; and Phoebe A. Hearst Museum of Anthropology, University of California, Berkeley, Berkeley, CA

AGENCY: National Park Service, Interior.

ACTION: Notice.

Notice is here given in accordance with the Native American Graves Protection and Repatriation Act (NAGPRA), 25 U.S.C. 3003, of the completion of an inventory of human remains and associated funerary objects in the control of the U.S. Department of Defense, Army Corps of Engineers, Sacramento District, Sacramento, CA, and in the physical custody of the Phoebe A. Hearst Museum of Anthropology, University of California, Berkeley, Berkeley, CA, and the U.S. Department of the Interior, National Park Service, Sequoia & Kings Canyon National Parks, Three Rivers, CA. The human remains and associated funerary objects were removed from within the boundaries of Lake Kaweah, Tulare County, CA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

An assessment of the human remains in the physical custody of the Phoebe A. Hearst Museum of Anthropology was made by the museum's professional staff. Sequoia & Kings Canyon National Parks also did an assessment of the human remains and associated funerary objects in their physical custody. The assessment of the cultural affiliation for the U.S. Army Corps of Engineers, Sacramento District was based on a Corps of Engineers contracted study done in 2004, titled “Cultural Affiliation of the Lake Kaweah Property, U.S. Army Corps of Engineers, Sacramento District.” These assessments were made based on the results of an extensive study utilizing the four fields of anthropology. Copies of the report were sent to representatives of the Big Sandy Rancheria of Mono Indians of California; Cold Springs Rancheria of Mono Indians of California; Northfork Rancheria of Mono Indians of California; Picayune Rancheria of Chukchansi Indians of California; Santa Rosa Indian Community of the Santa Rosa Rancheria, California; Table Mountain Rancheria of California; Tule River Indian Tribe of the Tule River Reservation, California; and Tuolumne Band of Me-Wuk Indians of the Tuolumne Rancheria of California. Consultation was also carried out by Sequoia & Kings Canyon National Parks' professional staff with the following non-Federally recognized Indian groups, which represent traditionally associated peoples who have maintained interest in previous repatriation and reburial efforts for the area: Dunlap Band of Mono Indians, Sierra Foothill Wuksachi Tribe, Sierra Nevada Native American Coalition, and Wukchumni Tribal Council.

Between 1959 and 1961, human remains were removed from CA-TUL-145 (“Cobble Lodge”), Tulare County, CA. In 1959, the human remains were removed during an excavation of a borrow pit in support of the construction of Terminus Dam and the creation of the reservoir that forms Lake Kaweah, a Federal project undertaken and still managed by the U.S. Army Corps of Engineers. Between 1960 and 1961, human remains were removed during salvage work being carried out by Dr. Jay von Werlhof, under contracts coordinated by the National Park Service at the request of the Army Corps. The report by Dr. von Werlhof (1961) identified 130 individuals and 502 artifacts. An unidentified number of fragmentary and skeletal remains were re-interred at the site following the field work. Human remains were transferred to the museum at the University of California, Berkeley. Additionally, human remains and associated funerary objects were deposited at the Ash Mountain Headquarters of Sequoia & Kings Canyon National Parks. One brownware pottery vessel had been transferred to the University of New Mexico (Maxwell Museum), and is now in the physical custody of the Sequoia & Kings Canyon National Parks. The human remains in the physical custody of the University of California, Berkeley and Sequoia & Kings Canyon National Parks represent a minimum of five individuals. No known individuals were identified. The 120 associated funerary objects are 16 projectile points, 25 bifaces and fragments, 5 modified flaked stones, 18 flaked stones/debitage, 16 ground stone artifacts, 16 steatite artifacts, 1 brownware pottery sherd, 1 brownware vessel, 6 faunal remains, and 16 marine shell ornaments.

The Cobble Lodge materials in the possession of Sequoia & Kings Canyon National Parks have been re-examined by URS, Inc. (Browning and Nilsson 2007). The artifact assemblage includes chipped stone projectile points (Desert Series, Cottonwood, Rose Spring, and Sierra Concave Base), steatite vessels and beads, marine shell ornaments, and the single brownware vessel. These temporally diagnostic artifacts support an interpretation that the site is a multiple component site that would have been occupied circa 300 B.C. to A.D. 1850. The report by von Werlhof (1961) interpreted Cobble Lodge to be a late Prehistoric housepit village and cemetery, and to have been permanently occupied until the early 1860s. This suite of artifact types is most strongly affiliated in the archeological record with the Yokuts and Western Mono (Monache) cultural groups.

Geographic and linguistic evidence also places Yokuts and Western Mono (Monache) groups within the western foothills of the southern Sierra Nevada during this time period. Descendants of the Yokuts and Western Mono (Monache) are members of the Big Sandy Rancheria of Mono Indians of California; Cold Springs Rancheria of Mono Indians of California; Northfork Rancheria of Mono Indians of California; Picayune Rancheria of Chukchansi Indians of California; Santa Rosa Indian Community of the Santa Rosa Rancheria, California; Table Mountain Rancheria of California; Tule River Indian Tribe of the Tule River Reservation, California; and Tuolumne Band of Me-Wuk Indians of the Tuolumne Rancheria of California.

Officials of the Army Corps of Engineers, Sacramento District and Sequoia & Kings Canyon National Parks have determined that, pursuant to 25 U.S.C. 3001 (9-10), the human remains described above represent the physical remains of five individuals of Native American ancestry. Officials of the Army Corps of Engineers, Sacramento District and Sequoia & Kings Canyon National Parks also have determined that, pursuant to 25 U.S.C. 3001 (3)(A), the 120 objects described above are reasonably believed to have been placed with or near individual human remains at the time of death or later as part of the death rite or ceremony. Lastly, officials of the Army Corps of Engineers, Sacramento District have determined that, pursuant to 25 U.S.C. 3001 (2), there is a relationship of shared group identity that can be reasonably traced between the Native American human remains and associated funerary objects and the Big Sandy Rancheria of Mono Indians of California; Cold Springs Rancheria of Mono Indians of California; Northfork Rancheria of Mono Indians of California; Picayune Rancheria of Chukchansi Indians of California; Santa Rosa Indian Community of the Santa Rosa Rancheria, California; Table Mountain Rancheria of California; Tule River Indian Tribe of the Tule River Reservation, California; and Tuolumne Band of Me-Wuk Indians of the Tuolumne Rancheria of California.

Representatives of any other Indian tribe that believes itself to be culturally affiliated with the human remains and associated funerary objects should contact Richard Perry, NAGPRA Point of Contact, USACE Army Corps of Engineers, 1325 J St., Sacramento, CA 95814, telephone (916) 557-5218, before July 20, 2009. Repatriation of the human remains and associated funerary objects to the Big Sandy Rancheria of Mono Indians of California; Cold Springs Rancheria of Mono Indians of California; Northfork Rancheria of Mono Indians of California; Picayune Rancheria of Chukchansi Indians of California; Santa Rosa Indian Community of the Santa Rosa Rancheria, California; Table Mountain Rancheria of California; Tule River Indian Tribe of the Tule River Reservation, California; and Tuolumne Band of Me-Wuk Indians of the Tuolumne Rancheria of California may proceed after that date if no additional claimants come forward.

Officials of the Army Corps of Engineers, Sacramento District are responsible for notifying the Big Sandy Rancheria of Mono Indians of California; Cold Springs Rancheria of Mono Indians of California; Northfork Rancheria of Mono Indians of California; Picayune Rancheria of Chukchansi Indians of California; Santa Rosa Indian Community of the Santa Rosa Rancheria, California; Table Mountain Rancheria of California; Tule River Indian Tribe of the Tule River Reservation, California; and Tuolumne Band of Me-Wuk Indians of the Tuolumne Rancheria of California that this notice has been published.

Dated: May 18, 2009
Sherry Hutt,
Manager, National NAGPRA Program.

[FR Doc. E9-14296 Filed 6-17-09; 8:45 am]

BILLING CODE 4312-50-S